NATIONAL SCIENCE FOUNDATION

Advisory Panel for Integrative Activities; Notice of Meeting

In accordance with the Federal Advisory Committee Act (Pub. L. 92-463, as amended), the National Science Foundation (NSF) announces the following meeting.

Name: Advisory Panel for Integrative Activities (#1373).

Date and Time: Thursday, July 11, 2002, 8 a.m.-4 p.m.; Friday, July 12, 2002, 8 a.m.-3 p.m.

Place:

July 11, 8 a.m.-9 a.m. and July 12, 8 a.m.-3 p.m., National Science Foundation, RM 330, 4201 Wilson Blvd., Arlington, VA 22230;

July 11, 9:30 a.m.-2 p.m., RAND Corporation, 1200 South Hayes St., Arlington, VA;

July 11, 2:30 p.m.-4 p.m., Office of Science and Technology Policy, Washington, DC.

Contact: Paul J. Herer, Senior Staff Associate, Office of Integrative Activities, National Science Foundation, Room 1270, Arlington, Virginia. Phone: 703/292-8040.

Type of Meeting: Part-Open.

Purpose of Meeting: Review and evaluation of the RAND Science and Technology Policy Institute (STPI).

Agenda:

Open Sessions

July 11, 8 a.m.-2 p.m.—Introductions, Discussions with NSF Deputy Director, Visit to RAND, Corp.

July 12, 8 a.m.-9—Public Comment, Discussions of S&E Policy

Closed Session

July 11, 2:30 p.m.-4 p.m. and July 12, 9 a.m.-3 p.m.—Review and evaluate progress and plans of STPI.

Reason for Closing: The information being reviewed includes information of a proprietary or confidential nature, including technical information, financial data, such as salaries; and personal information concerning individuals associated with the institute. These matters are exempt under 5 U.S.C. 552b(c), (4) and (6) of the Government in Sunshine Act.

Dated: June 14, 2002.
Susanne Bolton,
Committee Management Officer.

[FR Doc. 02-15494 Filed 6-19-02; 8:45 am]

BILLING CODE 7555-01-M